DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC), National Center for Immunization and Respiratory Diseases (NCIRD) announces the following Federal Committee meeting.

Name: Advisory Committee on Immunization Practices (ACIP).

Times and Dates: October 25, 2006, 8 a.m.-6 p.m., October 26, 2006, 8 a.m.-4 p.m.

Place: Centers for Disease Control and Prevention, 1600 Clifton Road, NE., Global Communications Center, Room 232, Atlanta, Georgia 30333.

Status: Open to the public, limited only by space available. The meeting space accommodates approximately 330 people. Overflow space for real-time viewing will be available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include discussions on immunization safety, vaccine financing, herpes zoster (shingles) vaccine, rabies vaccine, meningococcal vaccine (MCV4), influenza vaccine, human papillomavirus vaccine follow-up, evidence-based methods for development of ACIP recommendations, and agency updates. Agenda items are subject to change as priorities dictate.

Additional Information: In order to expedite the security clearance process at the CDC Roybal Campus on Clifton Road, all ACIP attendees are required to register on-line at http://www.cdc.gov/nip/acip. Registration instructions and forms can be found under the “Upcoming Meetings” tab. Please be sure to complete all the required fields before submitting your registration and submit no later than September 29, 2006.

Please Note: All non-U.S. citizens must pre-register by September 29, 2006. Access will not be allowed to the campus and registration will NOT be allowed on site at the time of the meeting. All non-U.S. citizens are required to complete the “Access Request Form” and register on-line at http://www.cdc.gov/nip/acip. The access request form can be obtained from the ACIP Web site and should be e-mailed directly back to Ms. Demetria Gardner at dgardner@cdc.gov upon completion.

For Further Information Contact: Demetria Gardner, Immunization Services Division, National Center for Immunization and Respiratory Diseases, CDC, 1600 Clifton Road, NE., (E-05), Atlanta, Georgia 30333, telephone 404/639-8836, fax 404/639-8905.

The Director, Management Analysis and Services Office, has been delegated the authority to sign Federal Register notices pertaining to announcements of meetings and other committee management activities for both the CDC and ATSDR.

Dated: September 1, 2006.
Alvin Hall,
Director, Management Analysis and Services Office, Centers for Disease Control and Prevention.

[FR Doc. E6-14949 Filed 9-8-06; 8:45 am]

BILLING CODE 4163-18-P